COMMISSION ON CIVIL RIGHTS

Agenda and Notice of Public Meeting of the New York Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the New York Advisory Committee to the Commission will convene at 12:00 p.m. (EDT) on Friday, June 12, 2015, at the law offices of Sullivan & Cromwell, 125 Broad Street, New York, NY 10004. The purpose of the planning meeting is for the Advisory Committee to discuss plans to conduct a public meeting on the over-policing of communities of color in New York.

DATES: Friday, June 12, 2015, at 12:00 p.m. EDT.

ADDRESSES: The meeting will be held at the at law offices of Sullivan & Cromwell, 125 Broad Street, New York, NY 10004.

FOR FURTHER INFORMATION CONTACT: Barbara de la Viez at bdelaviez@usccr.gov or call 202-376-7533.

SUPPLEMENTARY INFORMATION: Members of the public are invited to make statement during the open comment period at the end of the meeting. Members of the public may also submit written comments for the record. The comments must be received in the regional office by Monday, July 13, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Persons needing accessibility services should contact the Eastern Regional Office at least ten (10) working days before the scheduled meeting date. Please contact Evelyn Bohor at ero@usccr.gov.

Records and documents discussed during the meeting will be available for public viewing as they become available at http://facadatabase.gov/committee/meetings.aspx?cid=265 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Welcome and Introductions

Alexandra D. Korry, Chair

Discussion of Plans for the Public Meeting on Over-Policing of Communities of Color in New York

New York Advisory Committee

Administrative Matters

Barbara de la Viez, DFO

Open comment

Adjournment

Dated: May 15, 2015.
David Mussatt,
Chief, Regional Programs Unit.

[FR Doc. 2015-12161 Filed 5-19-15; 8:45 am]

BILLING CODE 6335-01-P